DEPARTMENT OF ENERGY

Federal Energy Regulatory Commission

Combined Notice of Filings #2

Take notice that the Commission received the following electric rate filings:

Docket Numbers: ER14-2848-000.

Applicants: Liberty Utilities (Granite State Electric).

Description: § 205(d) rate filing per 35.13(a)(2)(iii): Borderline Sales Rate Sheet Update to be effective 11/1/2013.

Filed Date: 9/11/14.

Accession Number: 20140911-5081.

Comments Due: 5 p.m. ET 10/2/14.

Docket Numbers: ER14-2849-000.

Applicants: Southwest Power Pool, Inc.

Description: § 205(d) rate filing per 35.13(a)(2)(iii): 2953 Cottonwood II Wind Project, LLC GIA to be effective 9/2/2014.

Filed Date: 9/11/14.

Accession Number: 20140911-5087.

Comments Due: 5 p.m. ET 10/2/14.

Docket Numbers: ER14-2850-000.

Applicants: Southwest Power Pool, Inc.

Description: § 205(d) rate filing per 35.13(a)(2)(iii): Integrated System Open Access Transmission Tariff Revisions to be effective 10/1/2015.

Filed Date: 9/11/14.

Accession Number: 20140911-5114.

Comments Due: 5 p.m. ET 10/2/14.

Docket Numbers: ER14-2851-000.

Applicants: Southwest Power Pool, Inc.

Description: § 205(d) rate filing per 35.13(a)(2)(iii): Integrated System Bylaws and Membership Agreement Revisions to be effective 11/10/2014.

Filed Date: 9/11/14.

Accession Number: 20140911-5115.

Comments Due: 5 p.m. ET 10/2/14.

Docket Numbers: ER14-2852-000.

Applicants: Westar Energy, Inc.

Description: Compliance filing per 35: Compliance Filing Revising Formula Rate Protocols to be effective 3/1/2015.

Filed Date: 9/11/14.

Accession Number: 20140911-5149.

Comments Due: 5 p.m. ET 10/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2014.
Nathaniel J. Davis, Sr.,
Deputy Secretary.

[FR Doc. 2014-22393 Filed 9-18-14; 8:45 am]

BILLING CODE 6717-01-P